DEPARTMENT OF EDUCATION

National Assessment Governing Board

Meeting Notice; Correction

AGENCY: National Assessment Governing Board, Department of Education.

ACTION: Notice; correction.

SUMMARY: The National Assessment Governing Board (Governing Board) published a document in the Federal Register on Friday, May 3, 2024 announcing the schedule and proposed agenda of the May 16-17, 2024 quarterly meeting of the Governing Board. The meeting agenda has been revised to reflect the below changes to the Thursday and Friday sessions of the Governing Board meeting.

FOR FURTHER INFORMATION CONTACT: Angela Scott (202) 357-7502.

SUPPLEMENTARY INFORMATION:

In the Federal Register of May 3, 2024, in FR Doc. 2024-09695, at 89 FR 36782-236783, the agenda has been revised to reflect new times for these meetings. The AI and Large-Scale Assessment: Perspectives from PISA (the Programme for International Student Assessment) session scheduled for Thursday, May 16, 2024, from 11:00 a.m. to 12:00 p.m. will now be held on Friday, May 17, 2024, from 11:00 a.m.-12:00 p.m. The member discussion scheduled for Friday, May 17, 2024, from 11:45 a.m. to 12:15 p.m. will be held on Thursday, May 16, 2024, from 2:50 p.m. to 3:20 p.m.

The meeting will end at 5:30 p.m. which is 30 minutes earlier than the originally published end time of 6:00 p.m.

Lesley A. Muldoon,
Executive Director, National Assessment Governing Board (NAGB), U. S. Department of Education.

[FR Doc. 2024-11160 Filed 5-20-24; 8:45 am]

BILLING CODE 4000-01-P